ENVIRONMENTAL PROTECTION AGENCY

40 CFR Part 1068

General Compliance Provisions for Highway, Stationary, and Nonroad Programs

CFR Correction

In Title 40 of the Code of Federal Regulations, Part 1060 to end, revised as of July 1, 2019, on page 412, in § 1068.230, remove paragraphs (c)(1) and (c)(2).

[FR Doc. 2020-13900 Filed 6-25-20; 8:45 am]

BILLING CODE 1301-00-D